DEPARTMENT OF DEFENSE

Department of the Navy

[Docket ID: USN-2022-HQ-0016]

Submission for OMB Review; Comment Request

AGENCY: Department of the Navy, Department of Defense (DoD).

ACTION: 30-Day information collection notice.

SUMMARY: The DoD has submitted to OMB for clearance the following proposal for collection of information under the provisions of the Paperwork Reduction Act.

DATES: Consideration will be given to all comments received by October 11, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: United States Naval Academy Sponsor Program; OMB Control Number 0703-0054.

Type of Request: Extension.

Number of Respondents: 800.

Responses per Respondent: 1.

Annual Responses: 800.

Average Burden per Response: 1 hour.

Annual Burden Hours: 800.

Needs and Uses: The U.S. Naval Academy (USNA) Plebe Sponsor Program is a unique program offered through the Naval Academy that pairs midshipmen with faculty, staff, and local community area families to provide local support and a “home away from home” for midshipmen that is mutually beneficial to both the midshipman and the sponsor. This information collection is needed in order to determine the eligibility and overall compatibility between sponsor applicants and fourth class midshipmen at the USNA. In their first year, midshipmen desiring to participate in the program are assigned a sponsor from the local community area. An analysis of the information collected is performed by the Sponsor Program Officer in Charge in order to best match sponsor with a midshipman. Without this information collection, the sponsor program would not be able to determine if a sponsor family was “safe” to place a midshipman with nor appropriately match the interests of the midshipman with those of the sponsor family.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: September 2, 2022.
Aaron T. Siegel,
Alternate OSD Federal Register Liaison Officer, Department of Defense.

[FR Doc. 2022-19416 Filed 9-7-22; 8:45 am]

BILLING CODE 5001-06-P